OFFICE OF PERSONNEL MANAGEMENT

5 CFR Part 532

[Docket ID: OPM-2024-0010]

RIN 3206-AO67

Prevailing Rate Systems; Redefinition of the Arapahoe-Denver, Colorado, Nonappropriated Fund Federal Wage System Wage Area

AGENCY: Office of Personnel Management.

ACTION: Proposed rule.

SUMMARY: The Office of Personnel Management (OPM) is proposing a rule to remove Denver County, CO, from the Arapahoe-Denver, CO, nonappropriated fund (NAF) Federal Wage System (FWS) wage area. In addition, OPM proposes to change the name of the Arapahoe-Denver NAF FWS wage area to Arapahoe. These changes are necessary because no NAF FWS employment has been reported in Denver County since 2018.

DATES: Send comments on or before June 3, 2024.

ADDRESSES: You may submit comments, identified by docket number and/or Regulatory Information Number (RIN) and title, by the following method:

• Federal eRulemaking Portal: https://www.regulations.gov. Follow the instructions for submitting comments.

All submissions received must include the agency name and docket number or RIN for this document. The general policy for comments and other submissions from members of the public is to make these submissions available for public viewing at https://www.regulations.gov without change, including any personal identifiers or contact information.

FOR FURTHER INFORMATION CONTACT: Ana Paunoiu, by telephone at (202) 606-2858 or by email at paypolicy@opm.gov.

SUPPLEMENTARY INFORMATION: Under 5 CFR 532.219, OPM may establish an NAF wage area when there are a minimum of 26 NAF wage employees in the survey area, a local activity has the capability to host annual local wage surveys, and the survey area has at least 1,800 private enterprise employees in establishments within survey specifications. The Arapahoe-Denver, CO, NAF wage area is presently composed of two survey area counties, Arapahoe and Denver Counties, CO, and one area of application county, Mesa County, CO. The Department of Defense (DOD) notified OPM that the Defense Finance Cafeteria that was located in Denver County closed in 2010 and the Denver Outpatient Clinic moved to Arapahoe County in 2018. This leaves no NAF FWS employment in Denver County. Under 5 U.S.C. 5343(a)(1)(B)(i), NAF wage areas “shall not extend beyond the immediate locality in which the particular prevailing rate employees are employed.” Therefore, Denver County should not be defined as part of an NAF wage area.

With the removal of Denver County, the renamed Arapahoe wage area would consist of one survey county, Arapahoe County, CO, and one area of application county, Mesa County, CO. DOD indicates that there are about 65 NAF FWS employees working in the survey area, and the area has a local activity, Buckley Space Force Base, capable of hosting the wage survey. There are also 4 NAF FWS employees in Mesa County.

The Federal Prevailing Rate Advisory Committee, the national labor-management committee responsible for advising OPM on matters concerning the pay of FWS employees, recommended these changes by consensus. These changes would be effective on the first day of the first applicable pay period beginning on or after 30 days following publication of the final regulations.

Expected Impact of This Proposed Rule

Under 5 U.S.C. 5343, OPM has the authority and responsibility to define the boundaries of NAF FWS wage areas. Any changes in wage area definitions can have the long-term effect of increasing pay for Federal employees in affected locations. OPM expects this proposed rule will have no impact on approximately 69 NAF FWS employees. OPM does not anticipate this proposed rule will substantially impact local economies or have a large impact in local labor markets. However, OPM is requesting comment in this proposed rule regarding the impact. As this and future wage area changes may impact higher volumes of employees in geographical areas and could rise to the level of impacting local labor markets, OPM will continue to study the implications of such impacts in this or future rules as needed.

Regulatory Review

OPM has examined the impact of this rulemaking as required by Executive Orders 12866, 13563, and 14094, which direct agencies to assess all costs and benefits of available regulatory alternatives and, if regulation is necessary, to select regulatory approaches that maximize net benefits (including potential economic, environmental, public health and safety effects, distributive impacts, and equity). OMB has determined that this rulemaking is not a “significant regulatory action” under section 3(f) of Executive Order 12866, as amended by Executive Order 14094.

Regulatory Flexibility Act

The Director of OPM certifies that this rulemaking will not have a significant economic impact on a substantial number of small entities.

Federalism

OPM has examined this rulemaking in accordance with Executive Order 13132, Federalism, and has determined that this proposed rule will not have any negative impact on the rights, roles and responsibilities of state, local, or tribal governments.

Civil Justice Reform

This rulemaking meets the applicable standard set forth in Executive Order 12988.

Unfunded Mandates Act of 1995

This rulemaking will not result in the expenditure by state, local, and tribal governments, in the aggregate, or by the private sector, of $100 million or more in any year, and it will not significantly or uniquely affect small governments. Therefore, no actions were deemed necessary under the provisions of the Unfunded Mandates Reform Act of 1995.

Paperwork Reduction Act of 1995

This rulemaking does not impose any reporting or recordkeeping requirements subject to the Paperwork Reduction Act.

List of Subjects in 5 CFR Part 532

Administrative practice and procedure, Freedom of information, Government employees, Reporting and recordkeeping requirements, Wages.

Office Of Personnel Management.
Kayyonne Marston,
Federal Register Liaison.

Accordingly, OPM is proposing to amend 5 CFR part 532 as follows:

PART 532—PREVAILING RATE SYSTEMS

1. The authority citation for part 532 continues to read as follows:

Authority: 5 U.S.C. 5343, 5346; § 532.707 also issued under 5 U.S.C. 552.

2. In appendix D to subpart B, amend the table by revising the wage area listing for the State of Colorado to read as follows:

Appendix D to Subpart B of Part 532—Nonappropriated Fund Wage and Survey Areas

* * * * *

Definitions of Wage Areas and Wage Area Survey Areas
* * * * *
COLORADO
Arapahoe
Survey Area
Colorado:
Arapahoe
Area of Application. Survey area plus:
Colorado:
Mesa
El Paso
Survey Area
Colorado:
El Paso
Area of Application. Survey area plus:
Colorado:
Bent
Otero
Pueblo
* * * * *

[FR Doc. 2024-09669 Filed 5-2-24; 8:45 am]

BILLING CODE 6325-39-P